DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO), Department of Commerce.

Title: Trademark Trial and Appeal Board (TTAB) Actions.

Form Number(s): PTO 2120, PTO 2151, PTO 2153, PTO 2188 through PTO 2190.

Agency Approval Number: 0651-0040.

Type of Request: Revision of a currently approved collection.

Burden: 18,311 hours annually.

Number of Respondents: 79,000 responses per year with an estimated 62,150 responses filed electronically.

Avg. Hours Per Response: The USPTO estimates that it will take the public between 10 to 45 minutes (0.17 to 0.75 hours), depending upon the complexity of the situation, to gather the necessary information, prepare, and submit the forms and requirements in this collection. The USPTO believes that it will take the same amount of time (and possibly less time) to gather the necessary information, prepare the submission, and submit it electronically as it does to submit the information in paper form.

Needs and Uses: Individuals or entities who believe that they would be damaged by the registration of a trademark or service mark may file an opposition to the registration of that mark or request an extension of time to file an opposition under section 13 of the Trademark Act, 15 U.S.C. 1063. Section 14 of the Trademark Act, 15 U.S.C. 1064 allows individuals and entities, who believe that they are or will be damaged by the registration of a mark, to file a petition to cancel the registration of that mark. Individuals or entities may also appeal any final decision of the Trademark Examining Attorney assigned to review an application for registration of a mark under section 20 of the Trademark Act, 15 U.S.C. 1070. The USPTO administers the Trademark Act according to 37 CRF Part 2. These actions are governed by the Trademark Trial and Appeal Board (TTAB), an administrative tribunal empowered to determine the right to register and subsequently determine the validity of a trademark. If a mark is successfully opposed or canceled, registration will not take place. There are no paper forms associated with this collection; however, this collection contains two suggested formats and six electronic forms available through the Electronic System for Trademark Trials and Appeals (ESTTA).

Affected Public: Business or other for-profit and not-for-profit institutions.

Frequency: On occasion.

Respondent's Obligation: Required to obtain or retain benefits.

OMB Desk Officer: David Rostker, (202) 395-3897.

Copies of the above information collection proposal can be obtained by any of the following:

E-mail: Susan.Fawcett@uspto.gov. Include “0651-0040 copy request” in the subject line of the message.

Fax: 571-273-0112, marked to the attention of Susan K. Fawcett.

Mail: Susan K. Fawcett, Records Officer, Office of the Chief Information Officer, Customer Information Services Group, Public Information Services Division, U.S. Patent and Trademark Office, P.O. Box 1450, Alexandria, VA 22313-1450.

Written comments and recommendations for the proposed information collection should be sent on or before October 24, 2007 to David Rostker, OMB Desk Officer, Room 10202, New Executive Office Building, 725 17th Street, NW., Washington, DC 20503.

Dated: September 17, 2007.
Susan K. Fawcett,
Records Officer, USPTO, Office of the Chief Information Officer, Customer Information Services Group, Public Information Services Division.

[FR Doc. E7-18739 Filed 9-21-07; 8:45 am]

BILLING CODE 3510-16-P